OFFICE OF PERSONNEL MANAGEMENT

5 CFR Part 532

RIN 3206-AK83

Prevailing Rate Systems; Redefinition of the Central North Carolina Appropriated Fund Wage Area

AGENCY: Office of Personnel Management.

ACTION: Proposed rule with request for comments.

SUMMARY: The Office of Personnel Management is issuing a proposed rule that would redefine the geographic boundaries of the Central North Carolina Federal Wage System (FWS) appropriated fund wage area. The proposed rule would remove Edgecombe and Wilson Counties, NC, from the survey area and add Hoke County, NC, to the survey area. The redefinition of Edgecombe, Hoke, and Wilson Counties would align the geographic definition of the Central North Carolina wage area more closely with the regulatory criteria used to define FWS wage areas.

DATES: We must receive comments on or before June 17, 2005.

ADDRESSES: Send or deliver comments to Donald J. Winstead, Deputy Associate Director for Pay and Performance Policy, Strategic Human Resources Policy Division, Office of Personnel Management, Room 7H31, 1900 E Street, NW., Washington, DC 20415-8200; email pay-performance-policy@opm.gov; or FAX: (202) 606-4264.

FOR FURTHER INFORMATION CONTACT: Madeline Gonzalez, (202) 606-2838; email pay-performance-policy@opm.gov; or FAX: (202) 606-4264.

SUPPLEMENTARY INFORMATION: The Office of Personnel Management (OPM) is engaged in an ongoing project to review the geographic definitions of Federal Wage System (FWS) wage areas. OPM considers the following regulatory criteria under 5 CFR 532.211 when defining FWS wage area boundaries:

(i) Distance, transportation facilities, and geographic features;

(ii) Commuting patterns; and

(iii) Similarities in overall population, employment, and the kinds and sizes of private industrial establishments.

OPM reviewed each county in the Central North Carolina wage area and found that the area of application for the wage area is appropriately defined. As part of the review of wage area boundaries, OPM also considers whether the survey areas within each wage area should be changed. Based on an analysis of the regulatory criteria for defining FWS wage areas, OPM proposes to remove Edgecombe and Wilson Counties, NC, from the survey area because there are no FWS employees working in Edgecombe or Wilson Counties. Defining Edgecombe and Wilson Counties as part of the Central North Carolina area of application would allow FWS pay rates to reflect more closely the prevailing rates where FWS employees actually work. The amount of wage survey data obtained from Edgecombe and Wilson Counties has been relatively low in past surveys, with only about 15 percent of the Central North Carolina survey data during the last full-scale wage survey coming from private industrial establishments located in these two counties. Edgecombe and Wilson Counties would remain in the Central North Carolina area of application.

In addition, OPM proposes to add Hoke County to the Central North Carolina survey area. Hoke County is currently defined as part of the Central North Carolina area of application. While there are no FWS employees working in Hoke County, Fort Bragg, the Central North Carolina's host activity, extends into Hoke County. Also, Hoke County is one of the two counties of the Fayetteville, NC Metropolitan Statistical Area (MSA). The other county of the Fayetteville, NC MSA, Cumberland County, is already defined as part of the Central North Carolina survey area.

These changes would be effective for the next full-scale wage survey in the Central North Carolina wage area, which is scheduled to begin in May 2006.

The Federal Prevailing Rate Advisory Committee (FPRAC), the national labor-management committee that advises OPM on FWS pay matters, reviewed and recommended these changes by consensus. Based on its review of the regulatory criteria for defining FWS wage areas, FPRAC recommended no other changes in the geographic definition of the Central North Carolina wage area.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

Office of Personnel Management.
Dan G. Blair,
Acting Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of North Carolina is amended by revising the listing for Central North Carolina to read as follows:

Appendix C to Subpart B of Part 532—Appropriated Fund Wage and Survey Areas

North Carolina

* * * * *

Central North Carolina

Survey Area

North Carolina:

Cumberland

Durham

Harnett

Hoke

Johnston

Orange

Wake

Wayne

Area of Application. Survey Area Plus:

North Carolina:

Alamance

Bladen

Caswell

Chatham

Davidson

Davie

Edgecombe

Franklin

Forsyth

Granville

Guilford

Halifax

Lee

Montgomery

Moore

Nash

Northampton

Person

Randolph

Richmond

Robeson

Rockingham

Sampson

Scotland

Stokes

Surry

Vance

Warren

Wilson

Yadkin

South Carolina:

Dillon

Marion

Marlboro

* * * * *

[FR Doc. 05-9894 Filed 5-17-05; 8:45 am]

BILLING CODE 6325-39-P